DEPARTMENT OF ENERGY

Federal Energy Regulatory Commission

[Project No. 3025-031]

Green Mountain Power Corporation; Notice of Application Tendered for Filing With the Commission and Establishing Procedural Schedule for Licensing and Deadline for Submission of Final Amendments

Take notice that the following hydroelectric application has been filed with the Commission and is available for public inspection.

a. Type of Application: Subsequent Minor License.

b. Project No.: 3025-031.

c. Date filed: March 30, 2022.

d. Applicant: Green Mountain Power Corporation (GMP).

e. Name of Project: Kelley's Falls Project (project).

f. Location: On the Piscataquog River in Hillsborough County, New Hampshire. The project does not occupy any federal land.

g. Filed Pursuant to: Federal Power Act 16 U.S.C. 791(a)-825(r).

h. Applicant Contact: Mr. John Greenan, PE, Green Mountain Power Corporation, 2152 Post Road, Rutland, VT 05701; Phone at (802) 770-2195, or email at John.Greenan@greenmountainpower.com.

i. FERC Contact: Arash Barsari at (202) 502-6207, or Arash.JalaliBarsari@ferc.gov.

j. This application is not ready for environmental analysis at this time.

k. Project Description: The existing Kelley's Falls Project consists of: (1) An approximately 230-foot-long, 31-foot-high concrete and stone masonry dam that includes: (a) An approximately 31-foot-long stone masonry east abutment with an intake structure that includes an 11-foot-wide, 11-foot-high headgate equipped with a 22.2-foot-wide, 17-foot-high trashrack with 2.5-inch clear bar spacing; (b) a 192-foot-long concrete ogee spillway section with: (i) A 6-foot-wide, 2.75-foot-high steel slide gate that includes a 3-foot-wide, 2-foot-high notch; (ii) 2.75-foot-high flashboards; and (iii) a crest elevation of 160.75 feet mean sea level (msl) at the top of the flashboards; and (c) a 7-foot-long concrete west abutment with a 3.5-foot-diameter gated, low-level outlet pipe; (2) a 284-foot-long, 2.5-foot-wide stone retaining wall on the east river bank that connects to the east abutment of the dam; (3) an impoundment (Namaske Lake) with a surface area of 154 acres at an elevation of 160.75 feet msl; (4) a 65-foot-long underground steel and concrete penstock; (5) a 28-foot-long, 28-foot-wide brick masonry and steel powerhouse containing a 450-kilowatt vertical Francis turbine-generator unit; (6) a 275-foot-long, 2.4-kilovolt (kV) underground transmission line that connects the generator to a 2.4/12-kV step-up transformer; and (7) appurtenant facilities. The project creates an approximately 65-foot-long bypassed reach of the Piscataquog River.

GMP voluntarily operates the project in a run-of-river mode using an automatic pond level control system, such that project outflow approximates inflow. GMP maintains the impoundment at the flashboard crest elevation of 160.75 feet msl.

Article 25 of the current license requires GMP to release a continuous minimum flow of 45 cubic feet per second (cfs) or inflow to the impoundment, whichever is less, as measured immediately downstream of the powerhouse. Downstream fish passage is provided for river herring through the notch in the slide gate located on top of the spillway. There are no upstream fish passage facilities at the project.

The minimum and maximum hydraulic capacities of the powerhouse are 175 and 420 cfs, respectively. The average annual generation of the project was approximately 1,572 megawatt-hours from 2014 through 2020.

GMP is not proposing any changes to project facilities or operation.

l. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-3025). For assistance, contact FERC at FERCOnlineSupport@ferc.gov or call toll-free, (866) 208-3676 or (202) 502-8659 (TTY).

m. You may also register online at https://ferconline.ferc.gov/FERCOnline.aspx to be notified via email of new filings and issuances related to this or other pending projects. For assistance, contact FERC Online Support.

n. Procedural Schedule: The application will be processed according to the following preliminary schedule. Revisions to the schedule will be made as appropriate.

Milestone | Target date
Issue Deficiency Letter | April 2022.
Request Additional Information (if necessary) | May 2022.
Notice of Acceptance/Notice of Ready for Environmental Analysis | September 2022.
Filing of recommendations, preliminary terms and conditions, and fishway prescriptions | November 2022.

o. Final amendments to the application must be filed with the Commission no later than 30 days from the issuance date of the notice of ready for environmental analysis.

Dated: April 13, 2022.
Debbie-Anne A. Reese,
Deputy Secretary.

[FR Doc. 2022-08399 Filed 4-19-22; 8:45 am]

BILLING CODE 6717-01-P